FEDERAL HOUSING FINANCE AGENCY

12 CFR Part 1266

Advances

CFR Correction

In Title 12 of the Code of Federal Regulations, Parts 1200 to 1599, revised as of January 1, 2015, on page 308, in § 1266.4, in paragraph (g)(2)(ii), remove the term “§ 950.2(a)” and add the term “§ 1266.2(a)” in its place.

[FR Doc. 2015-32112 Filed 12-21-15; 8:45 am]

BILLING CODE 1505-01-D